DEPARTMENT OF COMMERCE

International Trade Administration

[A-570-024]

Certain Polyethylene Terephthalate Resin From the People's Republic of China: Notice of Correction to Preliminary Affirmative Less Than Fair Value Determination

AGENCY: Enforcement and Compliance, International Trade Administration, Department of Commerce.

FOR FURTHER INFORMATION CONTACT: Steve Bezirganian, Office VI, AD/CVD Operations, Enforcement and Compliance, International Trade Administration, U.S. Department of Commerce, 14th Street and Constitution Avenue NW., Washington, DC 20230; telephone: (202) 482-1131.

SUPPLEMENTARY INFORMATION: On October 15, 2015, the Department of Commerce (the Department) published the preliminary affirmative less than fair value determination on certain polyethylene terephthalate resin from the People's Republic of China.¹ The Preliminary Determination contained inadvertent errors in the chart containing the weighted-average margins. Specifically, certain exporter names were matched with the incorrect producer names. The chart below contains the correct combinations of names:

¹ See Certain Polyethylene Terephthalate Resin from the People's Republic of China: Preliminary Determination of Sales at Less Than Fair Value and Postponement of Final Determination, 80 FR 62024 (October 15, 2015) (Preliminary Determination).

Exporter | Producer | Weighted- average margin (percent)
Far Eastern Industries (Shanghai) Ltd. or Oriental Industries (Suzhou) Limited | Far Eastern Industries (Shanghai) Ltd. or Oriental Industries (Suzhou) Limited | 125.12
Jiangyin Xingyu New Material Co., Ltd. or Jiangsu Xingye Plastic Co., Ltd. or Jiangyin Xingjia Plastic Co., Ltd. or Jiangyin Xingtai New Material Co., Ltd. or Jiangsu Xingye Polytech Co., Ltd | Jiangyin Xingyu New Material Co., Ltd. or Jiangsu Xingye Plastic Co., Ltd. or Jiangyin Xingjia Plastic Co., Ltd. or Jiangyin Xingtai New Material Co., Ltd. or Jiangsu Xingye Polytech Co., Ltd | 131.16
Dragon Special Resin (XIAMEN) Co., Ltd | Dragon Special Resin (XIAMEN) Co., Ltd | 129.42
Hainan Yisheng Petrochemical Co., Ltd | Hainan Yisheng Petrochemical Co., Ltd | 129.42
Shanghai Hengyi Polyester Fiber Co., Ltd | Shanghai Hengyi Polyester Fiber Co., Ltd | 129.42
Zhejiang Wankai New Materials Co., Ltd | Zhejiang Wankai New Materials Co., Ltd | 129.42
PRC-Wide Entity |  | 145.94

This correction to the Preliminary Determination is issued and published in accordance with section 777(i)(1) of the Tariff Act of 1930, as amended.

Dated: November 4, 2015.
Paul Piquado,
Assistant Secretary for Enforcement and Compliance.

[FR Doc. 2015-28665 Filed 11-9-15; 8:45 am]

BILLING CODE 3510-DS-P